PEACE CORPS

Notice of Public Use Form Review Request to the Office of Management and Budget

AGENCY: Peace Corps.

ACTION: Notice of public use form review request to the Office of Management and Budget. (Renewal with minimal text changes in the previously approved collection of OMB Control Number 0420-0005, Peace Corps Application.)

SUMMARY: Pursuant to the Paperwork Reduction Act of 1981 (44 U.S.C., Chapter 35), the Peace Corps has submitted to the Office of Management and Budget a request for renewal of information collection, OMB Control Number 0420-0005, the Peace Corps Volunteer Application. This is a renewal of an active OMB Control Number. The purpose of this notice is to allow for public comments on whether the proposed collection of information is necessary for the proper performance of the functions of the Peace Corps, including whether the information will have practical use; the accuracy of the agency's estimate of the burden of the proposed collections information, including the validity of the methodology and assumptions used; ways to enhance the quality, utility and the clarity of the information to be collected; and, ways to minimize the burden of the collection of information on those who are to respond, including through the use of automated collection techniques, when appropriate, and other forms of information technology. A copy of the proposed information collection form may be obtained from Ms. Dorothy Sullivan, Office of Volunteer Recruit and Selection, Operations Division, Recruitment Support Branch, Peace Corps, 1111 20th Street, NW., Room 3157, Washington, DC 20526. Ms. Sullivan can be contacted by telephone at 202-692-1873 or 800-424-8580 ext 1873 or e-mail at dsullivan@peacecorps.gov. Comments on the updated electronic version of this application should also be addressed to the attention of Ms. Sullivan and should be received on or before sixty days from June 29, 2009.

Need for and Use of this Information: This use of this application completed voluntarily by potential Peace Corps Volunteers in order to identify prospective applicants and process the applicants for Volunteer service. This information, which is gathered by an electronic on-line version of the previous used paper form, is used to determine qualifications and potential for placement of applicants, in fulfillment of the first goal of the Peace Corps as required by Congressional legislation and to enhance the Peace Corps Volunteer process.

Respondents: Potential Peace Corps Volunteers.

Respondent's Obligation to Reply: Voluntary.

Burden on the Public:

a. Annual reporting burden: 320,000 hours.

b. Annual recordkeeping burden: 0 hours.

c. Estimated average burden per response: 8 hours.

d. Frequency of response: One time.

e. Estimated number of likely respondents: 40,000.

f. Estimated cost to respondents: $0.

Dated: April 21, 2009.
Garry Stanberry,
Deputy Associate Director for Management.

[FR Doc. E9-9929 Filed 4-29-09; 8:45 am]

BILLING CODE P